DEPARTMENT OF TRANSPORTATION

Federal Aviation Administration

Approval of Noise Compatibility Program for Reno/Tahoe International Airport, Reno, NV

AGENCY: Federal Aviation Administration, DOT.

ACTION: Notice.

SUMMARY: The Federal Aviation Administration (FAA) announces its findings on the noise compatibility program submitted by Airport Authority of Washoe County under the provisions of Title I of the Aviation Safety and Noise Abatement Act, as amended, (Pub. L. 96-193) (hereinafter referred to as “the Act”) and 14 CFR Part 150. These findings are made in recognition of the description of Federal and nonfederal responsibilities in Senate Report No. 96-52 (1980). On November 15, 2001, the FAA determined that the noise exposure maps submitted by Airport Authority of Washoe County under Part 150 were in compliance with applicable requirements.

DATES: Effective Date: The effective date of the FAA's approval of the Noise Compatibility Program for Reno/Tahoe International Airport is April 7, 2004.

FOR FURTHER INFORMATION CONTACT: Andy Richards, Manager, San Francisco Airports District Office, Airports Division, Western-Pacific Region, Federal Aviation Administration, 831 Mitten Road, Burlingame, California 94010. Telephone: 650/876-2778. Documents reflecting this FAA action may be reviewed at this same location.

SUPPLEMENTARY INFORMATION: This notice announces that the FAA has given its overall approval to the Noise Compatibility Program for Reno/Tahoe International Airport, effective April 7, 2004. Under section 104(a) of the Aviation Safety and Noise Abatement Act of 1979, as amended (hereinafter referred to as the “Act”) [recodified as 49 U.S.C. 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of light procedures can be implemented within the period covered by the program without derogating safety, adversely affecting the efficient use and management of the navigable airspace and air traffic control systems, or adversely affecting other powers and responsibilities of the Administrator prescribed by law.

Specific limitations with respect to FAA's approval of an airport noise compatibility program are delineated in FAR part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where federal funding is sought, requests for project grants must be submitted to the FAA Airports District Office in Burlingame, California.

The Airport Authority of Washoe County submitted to the FAA on October 10, 2003, the Noise Exposure Maps, descriptions, and other documentation produced during the noise compatibility planning study conducted from December 8, 1995 through October 10, 2003. The Reno/Tahoe International Airport Noise Exposure Maps were determined by FAA to be in compliance with applicable requirements on November 15, 2001. Notice of this determination was published in the Federal Register on November 27, 2001.

The Reno/Tahoe International Airport study contains a proposed noise compatibility program comprised of actions designed for phased implementation by airport management and adjacent jurisdictions from (October 10, 2003 to beyond the year 2008). It was requested that the FAA evaluate and approve this material as a Noise Compatibility Program as described in 49 U.S.C. 47504 (formerly section 104(b) of the Act). The FAA began its review of the program on October 10, 2003 and was required by a provision of the Act to approve or disapprove the program within 180 days (other than the use of new or modified flight procedures for noise control). Failure to approve or disapprove such program within the 180-day period shall be deemed to be an approval of such program.

The submitted program contained twenty-four (24) proposed actions for noise abatement, noise mitigation, land use planning and program management on and off the airport. The FAA completed its review and determined that the procedural and substantive requirements of the Act and FAR Part 150 have been satisfied. The overall program was approved, by the Associate Administrator for Airports, effective April 7, 2004.

Outright approval was granted for all twenty-four (24 specific program measures. The approved measures included such items as: Continued use of the existing Preferential Runway Use Program; Continuance of the existing Aircraft Engine Maintenance Run-up Restrictions; Continuation of existing efforts to discourage Military Transient Training Flights; Maintenance of existing Nighttime Flight Corridors for General Aviation departures on Runways 7 and 16L/R; Continuation of the usage of signs installed by the Airport Authority of Washoe County near the runway ends to notify pilots to use quiet flying techniques; Continuation of existing efforts to encourage the use of visual helicopter arrival and departure routes for noise abatement; Continuation and expansion of the existing acquisition of non-compatible land uses to be converted to compatible land uses within the 65 DNL contour; Continuation and update of Acoustical Treatment Program for dwelling units located within the2005 65 DNL; Sound insulation of two schools within the Squared-off 2005 65 DNL contour; Sound insulation of three places of worship within the 65 DNL contour; Update General/Comprehensive Plans for the cities of Reno and Sparks, and the community of Truckee Meadows and Washoe County to reflect the Squared-off 2010 noise exposure contours from Part 150 Study as basis for noise compatibility planning; Amend General Comprehensive Plans for the cities of Reno and Sparks, and the community of Truckee Meadows to reflect existing compatible and existing lower density land uses within the Squared-off 2010 65 DNL Contour; Amend mixed use designations with the squared-off 2010 65 DNL contour to discourage residential land uses; Continue submission of development projects to the Reno/Tahoe International Airport (RON) area to the Airport Authority of Washoe County (AAWC) for review; Maintain existing compatible land uses within the Squared-off 65 DNL when possible; Revise Reno Airport Overlay Zoning to include the Squared-off 2010 Noise exposure contours and refinements to Land Use Standards; Enact Overlay Zoning in Sparks and Washoe County to provide Noise Compatibility Land Use Standards near the airport. Enact construction Standards within the Overlay Zoning Districts to establish specific construction standards for sound insulation to achieve a maximum interior noise level of 45 DNL; Pursue Airport Fair Disclosure legislation through lobbying the State of Nevada Legislation to enact specific legislation requiring fair disclosure of airport noise and over flight track monitoring system; Acquire Geographic Information System to Monitor Noise concerns and Program Implementation; Continue public Outreach and Noise Abatement Education Program; Monitor compliance with the noise abatement Element of the Noise Compatibility Program; Update Noise Exposure Maps and Review the NCP by Airport Management, as necessary, at minimum every seven to ten years to respond to the changing conditions in the local area and the aviation industry. These determinations are set forth in detail in the Record of Approval signed by the Associate Administrator for Airports on April 7, 2004. The Record of Approval, as well as other evaluation materials and the documents comprising the submittal, are available for review at the FAA office listed above and at the administrative offices of the Airport Authority of Washoe County. The Record of Approval also will be available online at: http://www.faa.gov/arp/environmental/14cfr150/index14.cfm.

Dated: Issued in Hawthorne, California, on April 22, 2004.
Mia Paredes Ratcliff,
Acting Manager, Airports Division, Western-Pacific Region, AWP-600.

[FR Doc. 04-9923 Filed 4-30-04; 8:45 am]

BILLING CODE 4910-13-M